DEPARTMENT OF HEALTH AND HUMAN SERVICES

Agency for Toxic Substances and Disease Registry

Community and Tribal Subcommittee of the Board of Scientific Counselors, Agency for Toxic Substances and Disease Registry: Meeting

In accordance with section 10(a)(2) of the Federal Advisory Committee Act (Pub. L. 92-463), the Agency for Toxic Substances and Disease Registry (ATSDR) announces the following subcommittee and committee meetings.

Name: Community and Tribal Subcommittee.

Times and Dates: 9 a.m.-5 p.m., July 27, 2001; 8:30 a.m.-4:30 p.m., July 28, 2001.

Place: Reno Hilton Hotel, 2500 E. Second Street, Reno Nevada 89595.

Status: Open to the public, limited by the available space.

The meeting room accommodates approximately 50 people.

Purpose: This subcommittee brings to the Board advice, citizen input, and recommendations on community and tribal programs, practices, and policies of the Agency.

Matters to be Discussed: Agenda items include a discussion of the ATSDR draft document “Public Health Reviews of Hazardous Waste Thermal Treatment Technologies;” an update on Action Items and Recommendations; an update by the CTS on the Task Force progress report and interactive session, and a discussion on the future activities of the Task Force.

Written comments are welcomed and should be received by the contact person listed below prior to the opening of the meeting.

Agenda items are subject to change as priorities dictate.

Contact Person For More Information: Robert Spengler, Executive Secretary, BSC, ATSDR contact, ATSDR, M/S E-28, 1600 Clifton Road, NE, Atlanta, Georgia 30333, telephone 404/498-0003.

The Director, Management Analysis and Services Office, has been delegated the authority to sign Federal Register notices pertaining to announcements of meetings and other committee management activities, for both the Centers for Disease Control and Prevention and the Agency for Toxic Substances and Disease Registry.

Dated: July 10, 2001.
John Burckhardt,
Acting Director, Management Analysis and Services Office, Centers for Disease Control and Prevention.

[FR Doc. 01-17659 Filed 7-13-01; 8:45 am]

BILLING CODE 4163-70-P